DEPARTMENT OF TRANSPORTATION

Federal Aviation Administration

Notice of Intent To Prepare an Environmental Impact Statement (EIS) for Proposed Capacity Enhancements and Other Improvements at Charlotte Douglas International Airport, Charlotte, Mecklenburg County, NC

AGENCY: Federal Aviation Administration (FAA), Department of Transportation (DOT).

ACTION: Notice of Intent to prepare an EIS, open a public scoping comment period, and hold agency and public scoping meetings.

SUMMARY: This Notice provides information to Federal, state, and local agencies; Native American tribes; and other interested persons regarding the FAA's intent to prepare an EIS to evaluate the potential impacts of the City of Charlotte Aviation Department's (Department's) proposal to construct capacity enhancements and other improvements at Charlotte Douglas International Airport in Charlotte, NC. The Department has initially identified the following four main elements of the Proposed Action: (1) Fourth Parallel Runway 1-19 and End-Around Taxiways; (2) Concourse B and Ramp Expansion; (3) Concourse C and Ramp Expansion; and (4) Daily North Parking Deck. The EIS will evaluate the potential direct, indirect, and cumulative environmental impacts that may result from the Proposed Action, including related activities and actions connected to the Proposed Action. To ensure that all significant issues related to the Proposed Action are identified, two (2) public scoping meetings and two (2) governmental agency scoping meetings will be held.

The FAA is the lead agency for the preparation of the EIS. Cooperating Agencies will be identified during the agency scoping process. The FAA intends to use the preparation of this EIS to comply with other applicable environmental laws and regulations as identified through the environmental analysis. The FAA will provide more specific public notice of the environmental laws, regulations and executive orders being satisfied through the EIS as the environmental consequences of the proposed project and its alternatives are better understood.

DATES: The FAA invites interested agencies, organizations, Native American tribes, and members of the public to submit comments or suggestions to assist in identifying significant environmental issues and in determining the appropriate scope of the EIS. The public scoping comment period starts with the publication of this Notice in the Federal Register. Comments must be received by May 7, 2018.

ADDRESSES: Comments, statements, or questions concerning the EIS scope or process should be mailed to: Ms. Kristi Ashley, FAA Environmental Specialist, Memphis Airports District Office, 2600 Thousand Oaks Blvd., Suite 2250, Memphis, TN 38118. Comments can also be sent by email to CLTEIS@faa.gov.

SUPPLEMENTARY INFORMATION: The purpose of this notice is to inform Federal, state and local government agencies and the public of the intent to prepare an EIS and to conduct public and agency scoping process. Information, data, opinions and comments obtained throughout the scoping process will be considered in preparing the draft EIS.

The FAA will prepare the EIS in accordance with the National Environmental Policy Act (NEPA; 42 United States Code 4321 et seq.), the Council on Environmental Quality Regulations for Implementing the Procedural Provisions of NEPA (40 Code of Federal Regulations parts 1500-1508), FAA Order 1050.1F, Environmental Impacts: Policies and Procedures, and FAA Order 5050.4B, National Environmental Policy Act (NEPA) Implementing Instructions for Airport Actions.

The EIS will evaluate the potential impacts of the Department's proposal to construct capacity enhancements and other improvements at Charlotte Douglas International Airport in Charlotte, North Carolina. The Department has initially identified the following four main elements of the Proposed Action: (1) Fourth Parallel Runway 1-19 and End-Around Taxiways; (2) Concourse B and Ramp Expansion; (3) Concourse C and Ramp Expansion; and (4) Daily North Parking Deck. The Fourth Parallel Runway I-19 and End-around Taxiways would entail construction of an approximately 12,000-foot runway located between existing Runway 18C-36C and Runway 18R-36L, along with associated taxiways (partial north End-Around Taxiway, full south End-Around Taxiway, parallel, high-speed exit and connector taxiways). Construction of the new runway along with terminal and ramp expansion projects would require the decommissioning of Runway 5-23 and relocation of West Boulevard. The Concourse B and Ramp Expansion would entail extending Concourse B to the west, creating 10-12 additional gates. The Concourse C and Ramp Expansion would entail extending Concourse C to the east, creating 10-12 additional gates. The Daily North Parking Deck would entail construction of a parking deck north of passenger terminal parking facilities.

Within the EIS, the FAA proposes to consider a range of reasonable alternatives that could potentially meet the purpose and need for the project being proposed at Charlotte Douglas International Airport. The EIS will include the evaluation of a No Action Alternative and other reasonable alternatives that may be identified, such as use of other airports or other modes of transportation, during the NEPA process, including scoping.

The potential environmental impacts of all proposed construction and operational activities will be analyzed in the EIS. The EIS will evaluate the potential environmental impacts associated with air quality; biological resources (including fish, wildlife, and plants); climate; properties protected under 49 U.S.C. 303(c), known as “Section 4(f)” of the Department of Transportation Act of 1966 (including publicly owned parks, recreational areas, wildlife and waterfowl refuges, and public and private historic sites); farmlands; ground transportation; hazardous materials, solid waste, and pollution prevention; historical, architectural, archeological, and cultural resources; land use; natural resources and energy supply; noise and noise-compatible land use; socioeconomics, environmental justice, and children's health and safety risks; visual effects; water resources (including wetlands, floodplains, surface waters, groundwater, and Wild and Scenic rivers). This analysis will include an evaluation of potential direct and indirect impacts, and will account for cumulative impacts from other relevant activities in the vicinity of the Charlotte Douglas International Airport.

Public and agency scoping meetings will be conducted to identify any significant issues associated with the Proposed Action. Two governmental agency scoping meetings for Federal, state, and local regulatory agencies which have jurisdiction by law or special expertise with respect to any potential environmental impacts associated with the Proposed Action will be held in Raleigh and Charlotte, NC.

Two public scoping meetings for the general public will be held to solicit input on potential issues that may need to be considered in the EIS. The first public scoping meeting will be held at 7:00 p.m. on Tuesday, April 24, 2018 at the Embassy Suites located at 4800 S. Tryon St, Charlotte, NC 28217. The second public scoping meeting will be held at 7:00 p.m. on Thursday, April 26, 2018 at the West Mecklenburg High School Cafeteria, located at 7400 Tuckaseegee Rd, Charlotte, NC 28214. For both meetings, the format will include an open-house workshop followed by a public comment period. During the public comment period, members of the public may provide up to a 3-minute statement. Oral comments will be transcribed by a stenographer. All comments received during the 45-day scoping comment period be considered in the preparation of the EIS, regardless of whether the comment is provided orally or in writing.

More information on the Proposed Action and the NEPA process is available on the project website at: www.clteis.com.

Issued in Memphis, TN, on March 12, 2018.
Phillip J. Braden,
Manager, Memphis Airports District Office, Southern Region.

[FR Doc. 2018-05583 Filed 3-21-18; 8:45 am]

BILLING CODE 4910-13-P